DEPARTMENT OF ENERGY

Notice of Availability of the Draft Environmental Impact Statement for the Disposal of Greater-Than-Class C (GTCC) Low-Level Radioactive Waste and GTCC-Like Waste, and Notice of Public Hearings

AGENCY: Department of Energy.

ACTION: Notice of availability.

SUMMARY: The U.S. Department of Energy (DOE) announces the availability of its Draft Environmental Impact Statement for the Disposal of Greater-Than-Class C (GTCC) Low-Level Radioactive Waste and GTCC-Like Waste (EIS-0375D, Draft EIS) for public review and comment. The Low-Level Radioactive Waste Policy Amendments Act (LLRWPAA) of 1985 makes the Federal Government responsible for the disposal of GTCC low-level radioactive waste (LLRW) that results from Nuclear Regulatory Commission (NRC) and Agreement State licensed activities. DOE is the Federal agency responsible for the disposal of GTCC LLRW. In addition to GTCC LLRW, this Draft EIS also addresses DOE generated or -owned LLRW and potential non-defense-generated transuranic radioactive waste having characteristics similar to GTCC LLRW (referred to herein as “GTCC-like” waste) and for which there may be no path to disposal.

DOE prepared this Draft EIS in accordance with the regulations of the Council on Environmental Quality (40 CFR parts 1500-1508) for implementing the National Environmental Policy Act (NEPA), and DOE's NEPA Implementing Procedures (10 CFR Part 1021). The Draft EIS evaluates the potential human health and environmental impacts of alternatives for disposing of an estimated 12,000 cubic meters (m³) of waste, containing approximately 160 million curies of radioactivity. This includes GTCC LLRW as defined by the NRC in 10 CFR 72.3, i.e., “low-level radioactive waste that exceeds the concentration limits of radionuclides established for Class C waste in 10 CFR 61.55,” as well as GTCC-like waste.

DOE proposes to construct and operate a new facility or facilities, or use an existing facility or facilities, for the disposal of GTCC LLRW and GTCC-like waste. The Draft EIS evaluates alternative methods for disposal of these wastes at the following alternative locations: the Hanford Site in Washington; the Idaho National Laboratory in Idaho; at and near the Waste Isolation Pilot Plant in New Mexico; the Los Alamos National Laboratory in New Mexico; the Nevada National Security Site (formerly known as the Nevada Test Site) in Nevada; and the Savannah River Site in South Carolina. The Draft EIS also evaluates generic commercial disposal sites in four regions of the U.S., and a “No Action Alternative” as required under NEPA. The U.S. Environmental Protection Agency is a cooperating agency in the preparation of this EIS.

DATES: DOE invites the public to submit oral and/or written comments on this Draft EIS during the public comment period, which extends through June 27, 2011. DOE will consider all comments received or postmarked by that date in preparing the Final EIS, and will consider late comments to the extent practicable. DOE will hold public hearings on the dates, times, and locations listed under SUPPLEMENTARY INFORMATION below.

ADDRESSES: Written comments on the Draft EIS may be submitted by U.S. mail to the following address: Mr. Arnold M. Edelman, EIS Document Manager, U.S. Department of Energy, GTCC EIS, Cloverleaf Building, EM-43, 1000 Independence Avenue, SW, Washington, DC 20585. Comments may also be submitted electronically via the GTCC EIS Web site at http://www.gtcceis.anl.gov, where the Draft EIS can be found, or by electronic mail to gtcceis@anl.gov. The Draft EIS is also available on DOE's NEPA Web site at http://nepa.energy.gov/draft_environmental_impact_statements.htm.

FOR FURTHER INFORMATION CONTACT: For further information about this Draft EIS, please contact Mr. Edelman at the mailing address or via the GTCC EIS Web site listed above. For information regarding the DOE NEPA process, please contact: Ms. Carol M. Borgstrom, Director, Office of NEPA Policy and Compliance (GC-54), U.S. Department of Energy, 1000 Independence Avenue, SW., Washington, DC 20585, Telephone: (202) 586-4600, or leave a message at (800) 472-2756.

SUPPLEMENTARY INFORMATION:

Background

Section 3(b)(1)(D) of the LLRWPAA assigned the Federal government responsibility for the disposal of GTCC LLRW that results from activities conducted under NRC and Agreement State licenses. The LLRWPAA also specified in Section 3(b)(2) that such waste be disposed of in a facility licensed by NRC. DOE is the Federal agency responsible for the disposal of GTCC LLRW. NRC, in 10 CFR 72.3, defines GTCC waste as LLRW that exceeds the concentration limits of radionuclides established for Class C waste in 10 CFR 61.55.

This Draft EIS evaluates the range of reasonable alternatives for disposal of GTCC LLRW. It also evaluates alternatives for the disposal of LLRW and potential non-defense-generated transuranic radioactive waste generated or owned by DOE, which has characteristics similar to GTCC LLRW, and for which there may be no path to disposal. For the purposes of this Draft EIS, DOE is referring to this waste as GTCC-like waste. The NRC LLRW waste classification system in 10 CFR 61.55 does not apply to radioactive waste generated or owned by DOE and disposed of in DOE facilities. DOE evaluates GTCC-like waste in the Draft EIS because common approaches may be used to dispose of both GTCC LLRW and GTCC-like waste.

DOE's proposed action is to construct and operate a new facility or facilities, or use an existing facility or facilities, for the disposal of GTCC LLRW and GTCC-like waste. Accordingly, the Draft EIS evaluates the potential environmental impacts associated with the proposed construction, operation, and performance of a facility or facilities for the disposal of GTCC LLRW and GTCC-like waste.

Types and Estimated Quantities of GTCC LLRW and GTCC-Like Wastes

The total inventory volume of GTCC LLRW and GTCC-like waste evaluated in the Draft EIS is about 12,000 m³, and is estimated to contain approximately 160 million curies of radioactivity. Of this total, approximately 3,000 m³ and less than one million curies are estimated to be GTCC-like waste. Approximately ten percent of the total estimated inventory volume of GTCC LLRW and GTCC-like waste is currently in storage, while approximately 90 percent is expected to be generated in the future.

GTCC LLRW and GTCC-like waste, for purposes of the Draft EIS, are categorized into three waste types: activated metal, sealed sources, or Other Waste. Activated metal wastes are largely generated from the decommissioning of nuclear reactors. They include portions of the nuclear reactor vessel, such as the core shroud and core support plate. Activated Metal wastes represent approximately 17 percent of the total inventory volume and approximately 98 percent of the radioactivity from GTCC LLRW and GTCC-like waste. There are 104 operating commercial reactors in the U.S., an additional 18 that have been closed or decommissioned, and an estimated 33 new commercial reactors that may be constructed in the future. Most of the Activated Metal waste will not be generated for several decades, when the majority of the currently operating reactors are scheduled to undergo decommissioning.

Sealed Sources are widely used for medical purposes, such as in equipment to diagnose and treat illnesses (particularly cancer), sterilize medical devices, and irradiate blood for transplant patients; and for industrial purposes, such as nondestructive testing of structures and industrial equipment and exploration of geologic formations for oil and gas. They are located in hospitals, universities, and industries throughout the U.S. Sealed sources represent approximately 25 percent of the total inventory volume and approximately one percent of the total radioactivity from GTCC LLRW and GTCC-like waste.

Other Waste primarily includes contaminated equipment, debris, scrap metal, and decommissioning waste such as waste from the production of molybdenum-99, which is used in about 16 million medical procedures (e.g., to detect cancer) each year; the production of radioisotope power systems in support of space exploration and national security; and the environmental cleanup of the West Valley Site in New York (a former commercial facility for reprocessing of spent nuclear fuel from nuclear power reactors). Other Waste represents approximately 58 percent of the total inventory volume and approximately one percent of the radioactivity from GTCC and GTCC-like wastes.

Disposal Alternatives Evaluated

The Draft EIS evaluates the range of reasonable alternatives for the disposal of GTCC LLRW and GTCC-like waste including:

1. Disposal in the WIPP geologic repository in New Mexico;

2. Disposal in a new borehole disposal facility at the Hanford Site in Washington, the Idaho National Laboratory in Idaho, the Los Alamos National Laboratory and WIPP Vicinity in New Mexico, and the Nevada National Security Site (formerly known as the Nevada Test Site) in Nevada; and

3. Disposal in a new trench or vault disposal facility at the same sites identified in item 2 above and at the Savannah River Site in South Carolina.

The Draft EIS also evaluates the potential environmental impacts of using a facility or facilities at generic commercial disposal sites in four regions of the U.S., should one or more commercial facilities be proposed in the future. In addition, the Draft EIS analyzes the No Action Alternative, as required by NEPA.

Alternatives Considered but Not Evaluated

DOE's Notice of Intent (NOI) for this EIS (72 FR 40135, July 23, 2007) identified Yucca Mountain in Nevada and the Oak Ridge Reservation (ORR) in Tennessee as locations to be evaluated for the potential disposal of GTCC wastes. DOE did not evaluate a repository at Yucca Mountain as an alternative in this Draft EIS because, since publication of the NOI, the Department determined that developing a permanent repository for high-level waste and spent nuclear fuel at Yucca Mountain is not a workable option and that the project should be terminated. Creating a disposal site at Yucca Mountain only for GTCC waste is not a reasonable alternative. Therefore, disposal of GTCC LLRW and GTCC-like waste at Yucca Mountain is no longer a reasonable alternative. The Draft EIS also does not evaluate disposal of this waste at ORR. Reviews conducted by DOE's Low-Level Waste Disposal Facility Federal Review Group determined that the site is not appropriate for disposal of LLRW containing high concentrations of long-lived radionuclides such as those found in GTCC wastes.

Preferred Alternative

DOE does not have a preferred alternative for the disposal of GTCC and GTCC-like waste, but does identify factors that DOE plans to consider in developing a preferred alternative or alternatives for inclusion in the Final EIS. These factors are discussed in the Summary and Chapter 2 of the Draft EIS and include waste type characteristics (e.g., radionuclide inventory and waste form stability), disposal method considerations (e.g., protection of an inadvertent intruder and operational experience), and disposal location considerations (e.g., potential human health impacts, tribal concerns, laws and other requirements). The preferred alternative could be a combination of two or more alternatives, which could include the No Action Alternative for a portion of the waste. DOE invites public comments on these factors and any additional factors that should be considered in the selection of a preferred alternative and why.

Public Hearings

DOE invites the public to present oral and/or written comments during public hearings on the Draft EIS. Participants may register to speak at the hearing or via the GTCC Web site. Speakers will be recognized in order as registered. Speakers may be asked to limit their oral comments to a certain time limit to be decided at the beginning of each of the public hearings based on the number of registered speakers. Speakers may be given an opportunity to take the floor a second time after all those who wish to speak have been given an opportunity to do so. During the first hour, the public may review informational materials provided by DOE and speak informally with DOE representatives. This will be followed by the formal hearing, which will be opened with a brief DOE presentation about the Draft EIS and a review of the hearing procedures. A court reporter will record all oral comments, which later will be publicly available. In addition to the dates, times, and locations of all the hearings listed below, further information about the hearings will also be available on the GTCC Web site and provided in local print media seven days in advance of the hearing.

Public hearings will be held at the following locations:

South Carolina

North Augusta Community Center, 495 Brookside Avenue, North Augusta, SC 29841, April 19, 2011, 5:30 p.m.-9:30 p.m.

New Mexico

Pecos River Village Conference Center, Carousel House, 711 Muscatel Avenue, Carlsbad, NM 88220, April 26, 2011, 5:30 p.m.-9:30 p.m.

Marriott Pyramid North, 5151 San Francisco Road NE., Albuquerque, NM, April 27, 2011, 5:30 p.m.-9:30 p.m.

Cities of Gold Hotel Conference Center, 10-B Cities of Gold Road, Santa Fe, NM 87506, April 28, 2011, 5:30 p.m.-9:30 p.m.

Nevada

Desert Research Institute—Frank Rodgers Building, 755 C. East Flamingo Road, Las Vegas, NV 89119, May 9, 2011, 5:30 p.m.-9:30 p.m.

Idaho

Shiloh Inn Suites Hotel, 780 Lindsay Boulevard, Idaho Falls, ID 83402, May 11, 2011, 5:30 p.m.-9:30 p.m.

Washington

Red Lion Hotel, 2525 N. 20th Avenue, Pasco, WA 99301, May 17, 2011, 5:30 p.m.-9:30 p.m.

Oregon

Doubletree Hotel, 1000 NE Multnomah Street, Portland, OR 97232, May 19, 2011, 5:30 p.m.-9:30 p.m.

Washington, DC

Hilton Garden Inn, 815 14th Street NW., Washington, DC 20005, May 25, 2011, 1 p.m.-5 p.m.

Public Reading Rooms and Libraries

Copies of the Draft EIS are available for public review at the locations listed below:

District of Columbia

U.S. Department of Energy, Freedom of Information Act Public Reading Room, 1000 Independence Avenue, SW., Room 1G-033, Washington, DC 20585, (202) 586-5955.

Idaho

University Place, TAB Building, U.S. Department of Energy Public Reading Room, 1776 Science Center Drive, Idaho Falls, ID 83401, (208) 526-0833.

Nevada

Nevada Site Office, U.S. Department of Energy, Public Reading Room, 755 East Flamingo Road, Room 103, Las Vegas, NV 89119, (702) 794-5106.

Amargosa Valley Library, 829 E. Farm Road, HCR 69 Box 401-T, Amargosa, NV 89020, (775) 372-5340.

Clark County Library, 1401 E. Flamingo Road, Las Vegas, NV 89119, (702) 507-3400.

Indian Springs Library, 715 Gretta Lane, P.O. Box 629, Indian Springs, NV 89018, (702) 879-3845.

Las Vegas Library, 833 N. Las Vegas Boulevard, Las Vegas, NV 89101, (702) 507-3500.

Pahrump Community Library, 701 S. East Street, Pahrump, NV 89048, (775) 727-5930.

Tonopah Public Library, 167 S. Central Street, Tonopah, NV 89049, (775) 482-3374.

New Mexico

DOE FOIA Reading Room, Government Information/Zimmerman Library, University of New Mexico, MSC05 3020, 1 University of New Mexico, Albuquerque, NM 87131-0001, (505) 277-7180.

Carlsbad Field Office, U.S. Department of Energy, WIPP Information Center, 4021 National Parks Highway, Carlsbad, NM 88220, (575) 234-7348 or (800) 336-9477.

Carlsbad Public Library, 101 South Halagueno Street, Carlsbad, NM 88220, (575) 885-6776.

Eunice Public Library, 1039 10th Street, Eunice, NM 88231, (575) 394-2336.

Española Public Library, 313 N Paseo de Oñate, Española, NM 87532, (505) 747-6087.

Mesa Public Library, 2400 Central Avenue, Los Alamos, NM 87544, (505) 662-8250.

Santa Fe Public Library, 145 Washington Street, Santa Fe, NM 87501, (505) 955-6780.

Santa Fe Public Library, Oliver La Farge Branch, 1730 Llano Street, Santa Fe, NM 87501, (505) 955-4860.

New Mexico State Library, 1209 Camino Carlos Rey, Santa Fe, NM 87507, (505) 476-9717.

Los Alamos National Laboratory, Public Reading Room, P.O. Box 1663, Mail Stop M9991, Los Alamos, NM 87545, Phone: (505) 667-0216.

Oregon

Portland State University, Government Information, Branford Price Millar Library, 1875 SW Park Avenue, Portland, OR 97201, (503) 725-5874.

South Carolina

University of South Carolina-Aiken, Gregg-Graniteville Library, 471 University Parkway, Aiken, SC 29801, (803) 641-3320.

South Carolina State Library, 1500 Senate Street, Columbia, SC 29211, (803) 734-8026.

Washington

U.S. Department of Energy, Public Reading Room, Consolidated Information Center, 2770 University Drive, Room 101L, Richland, WA 99352, (509) 372-7443.

University of Washington, Suzzallo-Allen Library, Government Publications Division, Seattle, WA 98195, (206) 543-1937.

Gonzaga University, Foley Center Library, 101-L 502 East Boone Avenue, Spokane, WA 99258, (509) 313-5931.

Individual commentors' names and addresses (including e-mail addresses) received as part of oral presentations at the public hearings or comment documents on this Draft EIS normally are part of the public record. DOE plans to reproduce comment documents in their entirety in the Final EIS, as appropriate, and to post all comment documents received in their entirety on the website for this EIS at the close of the public comment period. Any person wishing to have his/her name, address, or other identifying information withheld from the public record of comment documents must state this request prominently at the beginning of any comment document. DOE will honor the request to the extent allowable by law. All submissions from organizations or businesses will be included in the public record and open to public inspection in their entirety.

Next Steps

Following the end of the public comment period, DOE will consider public comments on the Draft EIS in preparing the Final EIS. After issuing the Final EIS, DOE will consider the environmental impact(s) presented in the Final EIS, along with other appropriate information in proposing its decision(s) related to the disposal of GTCC and GTCC-like wastes. DOE will not issue a Record of Decision until its required Report to Congress has been provided and appropriate action has been taken by Congress in accordance with the Energy Policy Act of 2005.

Issued in Washington, DC, on February 17, 2011.
Christine Gelles,
Director, Office of Disposal Operations, Office of Environmental Management.

[FR Doc. 2011-4151 Filed 2-24-11; 8:45 am]

BILLING CODE 6450-01-P